CHEMICAL SAFETY AND HAZARD INVESTIGATION BOARD

Sunshine Act Meeting; Public Meeting: Combustible Dust Hazards

AGENCY: U.S. Chemical Safety and Hazard Investigation Board (CSB).

ACTION: Notice announcing Sunshine Act public meeting and requesting public comment and participation.

SUMMARY: The CSB is planning to hold a public meeting to share findings and recommendations of the draft combustible dust hazards investigation report. This notice provides information regarding the purpose, date, time, location and format for the public meeting.

DATES: The Public Meeting will be held on Thursday, November 9, 2006 beginning at 9:30 a.m. in the Diplomat/Consulate Room, Embassy Suites Downtown Washington, 1250 22nd St., NW., Washington, DC 20037. Meeting will end at 12:30 p.m.

Pre-registration: The event is open to the public and there is no fee for attendance or pre-registration required. However, attendees are strongly encouraged to pre-register by e-mailing your name and affiliation by November 2, 2006 to dust@csb.gov.

FOR FURTHER INFORMATION CONTACT: Daniel Horowitz, Ph.D, Office of Congressional, Public, and Board Affairs, (202) 261-7613 or e-mail dust@csb.gov. Detailed information on the meeting agenda will be posted soon at http://www.csb.gov.

SUPPLEMENTARY INFORMATION:

A. Background.

B. CSB Hazard Investigation Study.

C. Board presentation.

A. Background

In 2003 the CSB investigated 3 combustible dust explosions. A total of 14 individuals were killed and 81 injured in these events. In January 2003, an explosion and fire at the West Pharmaceutical Services facility in Kinston, North Carolina resulted in the deaths of six workers and injuries to 38 others. CSB investigated this accident and concluded that the explosion was the result of the deflagration of polyethylene powder that had accumulated above a suspended ceiling in the processing area of the facility. In February 2003, a combustible dust explosion occurred at the CTA Acoustics facility in Corbin, Kentucky, killing 7 workers and injuring 37. CSB found that the fuel for the explosion was phenolic resin used to produce insulation materials for the automotive industry. The explosion began near a curing oven, where routine cleaning lofted accumulated resin dust that was ignited by fire in an oven on which the doors were left open. Numerous secondary deflagrations caused damage and injuries throughout the facility. The third incident occurred in October 2003 where one worker was killed and six others injured by an aluminum dust explosion at Hayes Lemmerz International in Huntington, Indiana. The occurrence of three fatal combustible dust explosions within one calendar year prompted the Board to commence a broader study of the extent, nature and prevention of combustible dust fire and explosion hazards.

B. CSB Hazard Investigation Study

The objectives of CSB's dust study investigation include:

1. Determining the number and effects of combustible dust fires and explosions in the United States during the twenty five year period beginning in 1980. CSB is excluding the following types of incidents for the purposes of this study:

(a) Those occurring in grain-handling or other facilities that are currently regulated by OSHA's grain handling standard.

(b) Those occurring in coal mines or other facilities covered by MSHA regulations. Incidents involving coal dust at power generation plants and other facilities not covered by MSHA regulations are not excluded.

(c) Incidents occurring in non-manufacturing facilities such as hospitals, military installations and research institutes.

(d) Incidents involving transportation or transportation vehicles.

(e) Incidents occurring outside the United States or U.S. territories.

2. Evaluating the extent and effectiveness of efforts by state and local officials to prevent combustible dust fires and explosions.

3. Evaluating the effectiveness of existing hazard communication programs and regulations in making facility managers and workers aware of the fire and explosion hazards of combustible dusts.

4. Determining what additional state, federal or private sector activities may be necessary to prevent future incidents.

C. Board Presentation

At the public meeting CSB staff will present to the Board the results of their investigation, including a discussion of the key findings and draft recommendations. After the staff presentation, the Board will allow a time for public comment. Following the conclusion of the public comment period, the Board will consider whether to vote to approve the final report and recommendations. When a report and its recommendations are approved, this will begin CSB's process for disseminating the findings and recommendations of the report not only to the recipients of recommendations but also to other public and industry sectors. The CSB believes that this process will ultimately lead to the adoption of recommendations and the growing body of safety knowledge in the industry, which, in turn, should save future lives and property.

All staff presentations are preliminary and are intended solely to allow the Board to consider in a public forum the issues and factors involved in this case. No factual analyses, conclusions or recommendations should be considered final. Only after the Board has considered the staff presentation and approved the staff report will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. 06-9010 Filed 10-27-06; 1:37 pm]

BILLING CODE 6350-01-P